COMMITTEE FOR PURCHASE FROM PEOPLE WHO ARE BLIND OR SEVERELY DISABLED

Procurement List; Deletions

AGENCY: Committee for Purchase from People Who Are Blind or Severely Disabled.

ACTION: Deletions from Procurement List.

SUMMARY: This action deletes from the Procurement List services previously furnished by nonprofit agencies employing persons who are blind or have other severe disabilities.

DATES: Effective Date: June 1, 2007.

ADDRESSES: Committee for Purchase From People Who Are Blind or Severely Disabled Jefferson Plaza 2, Suite 10800, 1421 Jefferson Davis Highway, Arlington, Virginia, 22202-3259.

FOR FURTHER INFORMATION OR TO SUBMIT COMMENTS CONTACT: Kimberly M. Zeich, Telephone: (703) 603-7740, Fax: (703) 603-0655, or e-mail CMTEFedReg@jwod.gov.

SUPPLEMENTARY INFORMATION:

Deletions

On March 30, 2007 and April 6, 2007, the Committee for Purchase From People Who Are Blind or Severely Disabled published notice (72 FR 15098; 17094) of proposed deletions to the Procurement List.

After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the services to the Government.

3. There are no known regulatory alternatives which would accomplish the objectives of the Javits-Wagner-O'Day Act (41 U.S.C. 46-48c) in connection with the services deleted from the Procurement List.

End of Certification

Accordingly, the following services are deleted from the Procurement List:

Services:

Service Type/Location: Carwash Service, U.S. Department of Interior, Bureau of Land Management, 1661 South Fourth Street, El Centro, CA.

NPA: ARC-Imperial Valley, El Centro, CA.

Contracting Activity: U.S. Department of Interior, Bureau of Land Management, El Centro, CA.

Service Type/Location: Grounds Maintenance, Point Molate Housing Facilities (Only), Richmond, CA.

NPA: North Bay Rehabilitation Services, Inc., Rohnert Park, CA.

Contracting Activity: Department of Homeland Security, U.S. Coast Guard.

Service Type/Location: Janitorial/Custodial, Agricultural Research Service, Southern Plains Range Research Station, 2000 18th Street, Woodward, OK.

NPA: Oklahoma's Action Rehabilitation Centers, Inc., Woodward, OK.

Contracting Activity: U.S. Department of Agriculture, ARS, OK.

Service Type/Location: Janitorial/Custodial, U.S. Immigration & Naturalization Service, Institutional Hearing Program, 7405CI Highway 75 South, Huntsville, TX.

NPA: Tri-County Mental Health and Mental Retardation Services, Conroe, TX.

Contracting Activity: U.S. Immigration and Naturalization Service, Houston, TX.

Service Type/Location: Publications Distribution, Naval Construction Battalion Center, Pascagoula, MS.

NPA: AbilityWorks, Inc. of Harrison County, Long Beach, MS.

Contracting Activity: Department of the Navy, Naval Supply Center, Pensacola, FL.

Kimberly M. Zeich,
Director, Program Operations.

[FR Doc. E7-10598 Filed 5-31-07; 8:45 am]

BILLING CODE 6353-01-P